DEPARTMENT OF HOUSING AND URBAN DEVELOPMENT

[Docket No. FR-4814-N-02]

Notice of Proposed Information Collection: Comment Request, Section 108 Loan Guarantee Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: May 12, 2003.

ADDRESSES: Interested persons are invited to submit comments regarding this proposal. Comments should refer to the proposal by name and/or OMB Control Number and should be sent to: Sheila Jones, Reports Liaison Officer, Department of Housing and Urban Development, 451 7th Street, SW., Room 7232, Washington, DC 20410.

FOR FURTHER INFORMATION CONTACT: Paul Webster, Director, Financial Management Division (202) 708-1871 (this is not a toll-free number):

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Section 108 Loan Guarantee Program.

OMB Control Number, if applicable: 2506-0161.

Description of the need for the information and proposed use: The regulations governing the Section 108 program, at 24 CFR 570.704, outline application requirements. The application is necessary in order to render judgment on the eligibility of the activities proposed to be financed with Section 108 loan guarantee assistance and to ensure that the loan guarantee does not pose a financial risk to the Federal government. Information collected pursuant to the application requirements will be reviewed and analyzed by HUD staff at the Field Office and Headquarters level to determine compliance with statutory requirements on eligibility, compliance with national objectives requirements of the CDBG program, and whether the loan guarantee constitutes and acceptable financial risk to the Federal government.

Agency form numbers, if applicable: Not applicable.

Members of affected public: Units of general local government eligible to apply for loan guarantee assistance under Section 108.

Estimation of the total numbers of hours needed to prepare the information collection including number of respondents, frequency of response, and hours of response: Section 108 Loan Guarantee Application—

Number of respondents: 90.

Number of responses: 1.

Total annual responses: 90.

Hours per response: 125.

Total: 11,250.

Status of the proposed information collection: Revision of currently approved collection.

Authority: The Paperwork Reduction Act of 1995, 44 U.S.C. Chapter 35, as amended.

Dated: March 5, 2003.
Roy A. Bernardi,
Assistant Secretary for Community Planning and Development.

[FR Doc. 03-5787 Filed 3-10-03; 8:45 am]

BILLING CODE 4210-29-M